DEPARTMENT OF LABOR

Employment and Training Administration

[NAFTA—5833]

Tyco Electronics, Carlisle, PA; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2331), an investigation was initiated on February 4, 2002, in response to a worker petition which was filed by on behalf of workers at Tyco Electronics, Carlisle, Pennsylvania.

Currently, an active certification covering the petitioning group of workers remains in effect (NAFTA-5317). Consequently further investigation in this case would serve no purpose, and the investigation has been terminated.

Signed in Washington, DC, this 19th day of August, 2002.
Richard Church,
Certifying Officer, Division of Trade Adjustment Assistance.

[FR Doc. 02-22963 Filed 9-9-02; 8:45 am]

BILLING CODE 4510-30-P